DEPARTMENT OF TRANSPORTATION

Federal Aviation Administration

14 CFR Part 39

[Docket No. FAA-2014-0594; Directorate Identifier 2014-CE-022-AD; Amendment 39-18005; AD 2014-22-01]

RIN 2120-AA64

Airworthiness Directives; PILATUS AIRCRAFT LTD. Airplanes

AGENCY: Federal Aviation Administration (FAA), Department of Transportation (DOT).

ACTION: Final rule.

SUMMARY: We are superseding Airworthiness Directive (AD) 2012-26-16 for all PILATUS AIRCRAFT LTD. Models PC-12, PC-12/45, PC-12/47, and PC-12/47E airplanes. This AD results from mandatory continuing airworthiness information (MCAI) issued by an aviation authority of another country to identify and correct an unsafe condition on an aviation product. The MCAI describes the unsafe condition as a need to incorporate new revisions into the Limitations section, Chapter 4, of the FAA-approved maintenance program (e.g., maintenance manual). We are issuing this AD to require actions to address the unsafe condition on these products.

DATES: This AD is effective December 18, 2014.

The Director of the Federal Register approved the incorporation by reference of certain publications listed in the AD as of December 18, 2014.

ADDRESSES: You may examine the AD docket on the Internet at http://www.regulations.gov by searching for and locating Docket No. FAA-2014-0594; or in person at the Docket Management Facility, U.S. Department of Transportation, Docket Operations, M-30, West Building Ground Floor, Room W12-140, 1200 New Jersey Avenue SE., Washington, DC 20590.

For service information identified in this AD, contact PILATUS AIRCRAFT LTD., Customer Service Manager, CH-6371 STANS, Switzerland; telephone: +41 (0) 41 619 33 33; fax: +41 (0) 41 619 73 11; Internet: http://www.pilatus-aircraft.com or email: SupportPC12@pilatus-aircraft.com. You may view this referenced service information at the FAA, Small Airplane Directorate, 901 Locust, Kansas City, Missouri 64106. For information on the availability of this material at the FAA, call (816) 329-4148.

FOR FURTHER INFORMATION CONTACT: Doug Rudolph, Aerospace Engineer, FAA, Small Airplane Directorate, 901 Locust, Room 301, Kansas City, Missouri 64106; telephone: (816) 329-4059; fax: (816) 329-4090; email: doug.rudolph@faa.gov.

SUPPLEMENTARY INFORMATION:

Discussion

We issued a notice of proposed rulemaking (NPRM) to amend 14 CFR part 39 to add an AD that would apply to all PILATUS AIRCRAFT LTD. Models PC-12, PC-12/45, PC-12/47, and PC-12/47E airplanes. That NPRM was published in the Federal Register on August 18, 2014 (79 FR 48701), and proposed to supersede AD 2012-26-16, Amendment 39-17311 (78 FR 11572, February 19, 2013).

Since we issued AD 2012-26-16, Amendment 39-17311 (78 FR 11572, February 19, 2013), PILATUS AIRCRAFT LTD. has issued revisions to the Limitations section of the airplane maintenance manual to include repetitive inspections of the inboard flap drive arms for cracks.

The European Aviation Safety Agency (EASA), which is the Technical Agent for the Member States of the European Community, has issued AD No. 2014-0170, dated July 17, 2014 (referred to after this as “the MCAI”), to correct an unsafe condition for the specified products. The MCAI states:

The maintenance instructions and airworthiness limitations applicable to the Structure and Components of PC-12 aeroplanes are specified in the Aircraft Maintenance Manual (AMM) under Chapter 4, Airworthiness Limitation Section (ALS).

The instructions contained in the ALS document have been identified as mandatory actions for continued airworthiness and failure to comply with these instructions and limitations could potentially lead to an unsafe condition.

Pilatus Aircraft Ltd. recently issued Pilatus PC-12 AMM report 02049 issue 28 for PC-12, PC-12/45 and PC-12/47 aeroplanes and PC-12 AMM report 02300 issue 11 for PC-12/47E aeroplanes to incorporate new repetitive inspection intervals of the inboard flap drive arms because of the detection of cracked parts.

For the reason described above, this AD retains the requirements of EASA AD 2013-0031, which is superseded, and requires implementation of the new maintenance requirements and/or airworthiness limitations.

The MCAI can be found in the AD docket on the Internet at: http://www.regulations.gov/#!documentDetail;D=FAA-2014-0594-0003.

Comments

We gave the public the opportunity to participate in developing this AD. The following presents the comments received on the proposal and the FAA's response to each comment.

Request To Remove Actions Retained From AD 2012-26-16, Amendment 39-17311 (78 FR 11572, February 19, 2013) (“AD 2012-26-16”)

Johan Kruger, Pilatus Aircraft Ltd., requested that we remove the actions retained from AD 2012-26-16, paragraphs (f)(1) and (f)(2) of the proposed AD from the final rule AD action. These actions were originally in AD 2009-14-13, Amendment 39-15963 (74 FR 34213, July 15, 2009), which was superseded by AD 2012-26-16.

Johan Kruger stated that the need to retain the actions previously required in AD 2012-26-16, paragraphs (f)(1) and (f)(2) of the proposed AD, no longer exists for the following reasons:

• In AD 2012-26-16, the initial compliance time for replacing the nose landing gear (NLG) torque tubes part number (P/N) 532.50.12.047 on Models PC-12 and PC-12/45 airplanes is within the next 100 hours time-in-service (TIS) after August 19, 2009 (the effective date retained from AD 2009-14-13) or 1 year after August 19, 2009, whichever occurs first. Compliance with this requirement should have been completed by September 20, 2010. AD 2012-26-16 also prohibits installing any NLG torque tube P/N 532.50.12.047 as of March 26, 2013 (the effective date retained from AD 2012-26-16).

• Even if P/N 532.50.12.047 had not been replaced as required in AD 2012-26-16, the life limit for P/N 532.50.12.047 in the airworthiness limitations section (ALS) of the airplane maintenance manual (AMM) referenced in the proposed AD is deemed adequate to address the potential unsafe condition.

• Since August 19, 2009, the effective date of AD 2009-14-13, Pilatus has not provided any P/N 532.50.12.047 as spares to any owners/operators in the United States. Pilatus is implying that after the issuance of AD 2009-14-13, NLG torque tube P/N 532.50.12.047 has not been installed as a spare on any affected Model PC-12 and PC-12/45 airplane in the United States.

Johan Kruger clarified that the unsafe condition caused by NLG torque tube P/N 532.50.12.047 that was addressed in AD 2012-26-16, which was a carryover from AD 2009-14-13, has sufficiently been addressed and is now covered by the ALS of the AMM that is referenced in the proposed AD, which is unchanged from AD 2012-26-16.

We agree with the commenter. We have changed the final rule AD action based on this comment and have removed paragraphs (f)(1) and (f)(2) as presented in the proposed AD from this final rule AD action. Any airplane that has not operated since the torque tube requirement was initiated through AD 2009-14-13 may apply for an alternative method of compliance.

Request To Remove the Effective Date Imposed in the Proposed AD

Johan Kruger, Pilatus Aircraft Ltd., and Gerard Terpstra requested that the effective date imposed in paragraph (f)(3) of the proposed AD be removed.

The commenters stated that it is out of the ordinary to have a compliance effective date imposed in a proposed AD. The commenters also pointed out that the effective date is before the comment close date.

We agree with the commenters that compliance effective dates are not normally put in a proposed AD. The September 22, 2014, effective date in paragraph (f)(3) of the proposed AD was a mistake. There will be no enforcement for that date in the final rule AD action and comments were still allowed through the comment close date of October 6, 2014, before final rule action was taken.

We changed the final rule AD action based on these comments.

Request To Withdraw the Proposed AD

Gerard Terpstra requested that the proposed AD be withdrawn because compliance with the new airworthiness limitations is already mandatory under federal regulations.

Gerard Terpstra stated that Title 14 of the Code of Federal Regulations (CFR), part 23, Appendix G, makes the requirements in the ALS of the AMM mandatory and 14 CFR 91.403 additionally prohibits the operation of an airplane unless the requirements of the ALS of the AMM are complied with. Therefore, 14 CFR 39.5 cannot be the basis for issuing the proposed AD because no unsafe condition exists.

Gerard Terpstra also stated that by using 14 CFR part 39 here the FAA has in fact induced an unintended consequence of allowing an operator to delay the implementation of the new ALS requirements. For example, the FAA publishes an AD periodically to require compliance with the then “current” version of the ALS of the Pilatus PC-12 AMM, most recently with AD 2012-26-16, which became effective on March 26, 2013. Pilatus Aircraft Ltd. subsequently revised the ALS of the AMM by publishing two temporary revisions on March 13, 2014. Gerard Terpstra estimated the compliance date for the final rule AD action to be around the first week of November 2014 (if the FAA observes the 45-day comment period and the 35 days for complying with the AD after it becomes effective). Between the time that Pilatus Aircraft Ltd. published their temporary revision and the time the proposed AD becomes effective as a final rule AD action is approximately six months, thereby delaying compliance with the ALS by around six months.

Gerard Terpstra stated his understanding of the desire and requirement to have regulations harmonized between different countries and that is what is being done here. EASA issues an AD and the FAA follows suit and issues an AD. But in this instance the proposed AD is not required as the proper and appropriate Federal regulations are already in place to ensure that the ALS of the AMM are complied with.

We don't agree with the commenter. Based on guidance from the FAA's Office of the Chief Counsel (AGC), the definition of the word “current” is the ALS of the AMM that was delivered with the original airworthiness (A/W) certificate of each airplane. The only way the FAA can enforce the use of a newer version of the ALS to the AMM on the entire existing fleet is through 14 CFR part 39 AD action.

We agree that the new ALS to the AMM is binding for a new airplane upon the issuance of the A/W certificate or existing airplanes that have the requirement as part of their operational specifications (e.g., 14 CFR part 135 operations), but not for the entire existing fleet (e.g., 14 CFR part 91 operations). EASA is in agreement with the FAA and understands that the only way to require the most recent revision to the ALS section for existing fleets in either state of registry system is through AD action.

Conclusion

We reviewed the relevant data, considered the comments received, and determined that air safety and the public interest require adopting the AD with the changes described previously and minor editorial changes. We have determined that these changes:

• Are consistent with the intent that was proposed in the NPRM (79 FR 48701, August 18, 2014) for correcting the unsafe condition; and

• Do not add any additional burden upon the public than was already proposed in the NPRM (79 FR 48701, August 18, 2014).

We also determined that these changes will not increase the economic burden on any operator or increase the scope of the AD.

Costs of Compliance

We estimate that this AD will affect 770 products of U.S. registry. We also estimate that it will take about 16.5 work-hours per product to comply with the basic requirements of this AD. The average labor rate is $85 per work-hour. Required parts will cost about $300 per product. Based on these figures, we estimate the cost of this AD on U.S. operators to be $1,310,925, or $1,702.50 per product. This breaks down as follows:

• New inspections, etc. through incorporating maintenance manual limitations: 3.5 work-hours with parts about $300 for a fleet cost of $460,075, or $597.50 per product.

• Wing main spar fastener holes inspection: 12 work-hours with no parts cost for fleet cost of $785,400 or $1,020 per product.

• Inboard flap drive arm inspection: 1 work-hour with no parts cost for fleet cost of $65,450 or $85 per product.

In addition, we estimate that any necessary corrective actions (on-condition costs) that must be taken based on the above inspections, etc. will take about 16 work-hours and require parts costing approximately $10,000 for a cost of $11,360 per product. We have no way of determining the number of products that may need these necessary corrective actions. This breaks down as follows:

• Replacements based on damaged parts or reduced life limits as a result of the new maintenance manual limitations: 6 work-hours with parts about $4,000 for a cost of $4,510 per product.

• Repairs to the wing spar as a result of the wing main spar fastener holes inspection: 7 work-hours with parts about $5,000 for a cost of $5,595 per product.

• Replacement of the inboard flap drive arm as a result of the inboard flap drive arm inspection: 3 work-hours with parts about $1,000 for a cost of $1,255.

The only costs that will be imposed by this AD over that already required by AD 2012-26-16 is the inboard flap arm inspection and replacement as necessary and the addition of 92 airplanes from 678 airplanes to 770 airplanes.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2014-0594; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-17311 (78 FR 11572, February 19, 2013), and adding the following new AD:

2014-22-01 PILATUS AIRCRAFT LTD.: Amendment 39-18005; Docket No. FAA-2014-0594; Directorate Identifier 2014-CE-022-AD.

(a) Effective Date

This airworthiness directive (AD) becomes effective December 18, 2014.

(b) Affected ADs

This AD supersedes AD 2012-26-16, Amendment 39-17311 (78 FR 11572, February 19, 2013).

(c) Applicability

This AD applies to PILATUS AIRCRAFT LTD. Models PC-12, PC-12/45, PC-12/47, and PC-12/47E airplanes, all manufacturer serial numbers (MSNs), certificated in any category.

(d) Subject

Air Transport Association of America (ATA) Code 5: Time Limits.

(e) Reason

This AD was prompted by mandatory continuing airworthiness information (MCAI) originated by an aviation authority of another country to identify and correct an unsafe condition on an aviation product. The MCAI describes the unsafe condition as a need to incorporate new revisions into the Limitations section, Chapter 4, of the FAA-approved maintenance program (e.g., maintenance manual). The limitations were revised to include repetitive inspections of the inboard flap drive arms for crack(s). These actions are required to ensure the continued operational safety of the affected airplanes.

(f) Actions and Compliance

Unless already done, do the actions in paragraphs (f)(1) through (f)(5) of this AD:

(1) Before further flight after December 18, 2014 (the effective date of this AD), insert Data module code 12-A-04-00-00-00A-000A-A, “STRUCTURAL, COMPONENT AND MISCELLANEOUS—AIRWORTHINESS LIMITATIONS,” dated March 13, 2014, of the Pilatus Model type—PC-12, PC-12/45, PC-12/47, Aircraft Maintenance Manual (AMM), Document No. 02049, 12-A-AM-00-00-00-I, revision 28, dated May 31, 2014, for Models PC-12, PC-12/45, PC-12/47, and Data module code 12-B-04-00-00-00A-000A-A, “STRUCTURAL AND COMPONENT LIMITATIONS—AIRWORTHINESS LIMITATIONS,” dated March 13, 2014, of the Pilatus Model type—PC-12/47E MSN-1001-UP, Aircraft Maintenance Manual (AMM), Document No. 02300, 12- B-AM-00-00-00-I, revision 11, dated May 31, 2014, for Model PC-12/47E, into the Limitations section of the FAA-approved maintenance program (e.g., maintenance manual). These limitations section revisions do the following:

(i) Establish an inspection of the inboard flap drive arms,

(ii) Specify replacement of components before or upon reaching the applicable life limit, and

(iii) Specify accomplishment of all applicable maintenance tasks within certain thresholds and intervals.

(2) Only authorized Pilatus Service Centers can do the Supplemental Structural Inspection Document (SSID) as required by the documents in paragraph (f)(1) of this AD because deviations from the type design in critical locations could make the airplane ineligible for this life extension.

(3) If no compliance time is specified in the documents listed in paragraph (f)(1) of this AD when doing any corrective actions where discrepancies are found as required in paragraph (f)(1)(iii) of this AD, do these corrective actions before further flight after doing the applicable maintenance task.

(4) During the accomplishment of the actions required in paragraphs (f)(1)(i), (f)(1)(ii), and (f)(1)(iii) of this AD, if a discrepancy is found that is not identified in the documents listed in paragraph (f)(1) of this AD, before further flight after finding the discrepancy, contact PILATUS AIRCRAFT LTD. at the address specified in paragraph (i) of this AD for a repair scheme and incorporate that repair scheme.

(5) Within the next 3 months after December 18, 2014 (the effective date of this AD) or within the next 150 hours TIS after December 18, 2014 (the effective date of this AD), whichever occurs first, inspect the inboard flap drive arms for cracks and take all necessary corrective actions.

(g) Other FAA AD Provisions

The following provisions also apply to this AD:

(1) Alternative Methods of Compliance (AMOCs): The Manager, Standards Office, FAA, has the authority to approve AMOCs for this AD, if requested using the procedures found in 14 CFR 39.19. Send information to Doug Rudolph, Aerospace Engineer, FAA, Small Airplane Directorate, 901 Locust, Room 301, Kansas City, Missouri 64106; telephone: (816) 329-4059; fax: (816) 329-4090; email: doug.rudolph@faa.gov.

(i) Before using any approved AMOC on any airplane to which the AMOC applies, notify your appropriate principal inspector (PI) in the FAA Flight Standards District Office (FSDO), or lacking a PI, your local FSDO.

(ii) AMOCs approved for AD 2012-26-16, Amendment 39-17311 (77 FR 11572, February 19, 2013) are not approved as AMOCs for this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Special Flight Permit

Special flight permits are prohibited.

(i) Related Information

Refer to MCAI European Aviation Safety Agency (EASA) AD No. 2014-0170, dated July 17, 2014, for related information. The MCAI can be found in the AD docket on the Internet at: http://www.regulations.gov/#!documentDetail;D=FAA-2014-0594-0003.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Data module code 12-A-04-00-00-00A-000A-A, “STRUCTURAL, COMPONENT AND MISCELLANEOUS—AIRWORTHINESS LIMITATIONS,” dated March 13, 2014, of the Pilatus Model type—PC-12, PC-12/45, PC-12/47, Aircraft Maintenance Manual (AMM), Document No. 02049, 12-A-AM-00-00-00-I, revision 28, dated May 31, 2014.

(ii) Data module code 12-B-04-00-00-00A-000A-A, “STRUCTURAL AND COMPONENT LIMITATIONS—AIRWORTHINESS LIMITATIONS,” dated March 13, 2014, of the Pilatus Model type—PC-12/47E MSN-1001-UP, Aircraft Maintenance Manual (AMM), Document No. 02300, 12- B-AM-00-00-00-I, revision 11, dated May 31, 2014.

Note to paragraph (j)(2) of this AD: Data module code 12-A-04-00-00-00A-000A-A, “STRUCTURAL, COMPONENT AND MISCELLANEOUS—AIRWORTHINESS LIMITATIONS,” dated March 13, 2014, of the Pilatus Model type—PC-12, PC-12/45, PC-12/47, Aircraft Maintenance Manual (AMM), Document No. 02049, 12-A-AM-00-00-00-I, revision 28, dated May 31, 2014; and Data module code 12-B-04-00-00-00A-000A-A, “STRUCTURAL AND COMPONENT LIMITATIONS—AIRWORTHINESS LIMITATIONS,” dated March 13, 2014, of the Pilatus Model type—PC-12/47E MSN-1001-UP, Aircraft Maintenance Manual (AMM), Document No. 02300, 12- B-AM-00-00-00-I, revision 11, dated May 31, 2014, were issued as complete updates to the AMM Airworthiness Limitations sections.

(3) For Pilatus Aircraft LTD. service information identified in this AD, contact PILATUS AIRCRAFT LTD., Customer Service Manager, CH-6371 STANS, Switzerland; telephone: +41 (0) 41 619 33 33; fax: +41 (0) 41 619 73 11; Internet: http://www.pilatus-aircraft.com or email: SupportPC12@pilatus-aircraft.com.

(4) You may view this service information at FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on October 20, 2014.
Derek Morgan,
Acting Manager, Small Airplane Directorate, Aircraft Certification Service.

[FR Doc. 2014-26704 Filed 11-12-14; 8:45 am]

BILLING CODE 4910-13-P